DEPARTMENT OF TRANSPORTATION

Federal Railroad Administration

[Docket Number FRA-2016-0045]

Petition for Special Approval of Alternate Standard

In accordance with part 238 of Title 49 Code of Federal Regulations (CFR), this provides the public notice that by a document dated February 18, 2015, the National Railroad Passenger Corporation (Amtrak) has petitioned the Federal Railroad Administration (FRA) for a Special Approval of an alternate standard for 49 CFR 238.311(a), Single car test, as prescribed in 49 CFR 238.21(b), Special approval procedure. FRA assigned the request Docket Number FRA-2016-0045.

Amtrak requests consideration for Special Approval of the submitted alternate standard identified as “Brakes Single Car Test LXFB-10-0008” for single car testing of auto carrier cars used on its Auto Train service between Lorton, VA, and Sanford, FL. Amtrak states that its Auto Train has a freight brake system. Amtrak, however, runs brake pipe pressure at 110 pounds per square inch (psi) and not 90 psi like the freight railroads. Under FRA's rules, these cars would need to have a single car test per 49 CFR 232.305 following the procedure of Association of American Railroads' (AAR) Standard S-486-04. The 49 CFR 238.311 referenced procedure of American Public Transportation Association Standard SS-M-005-98 does not apply. The proposed alternate standard, while still based on AAR S-486-04, incorporates modifications to the single car test device and procedures to allow for the higher 110 psi brake pressure.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 14, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also https://www.regulations.gov/privacyNotice for the privacy notice of regulations.gov.

Issued in Washington, DC, on October 5, 2016.
Karl Alexy,
Director, Office of Safety Analysis.

[FR Doc. 2016-24678 Filed 10-12-16; 8:45 am]

BILLING CODE 4910-06-P